DEPARTMENT OF DEFENSE

Defense Acquisition Regulations System

[Docket Number DARS-2023-0013; OMB Control Number 0704-0477]

Information Collection Requirement; Organizational Conflicts of Interest in Major Defense Acquisition Programs

AGENCY: Defense Acquisition Regulations System; Department of Defense (DoD).

ACTION: Notice and request for comments regarding a proposed extension of an approved information collection requirement.

SUMMARY: In compliance with the Paperwork Reduction Act of 1995, DoD announces the proposed extension of a public information collection requirement and seeks public comment on the provisions thereof. DoD invites comments on: whether the proposed collection of information is necessary for the proper performance of the functions of DoD, including whether the information will have practical utility; the accuracy of DoD's estimate of the burden of the proposed information collection; ways to enhance the quality, utility, and clarity of the information to be collected; and ways to minimize the burden of the information collection on respondents, including through the use of automated collection techniques or other forms of information technology. The Office of Management and Budget (OMB) has approved this information collection for use under Control Number 0704-0477 through July 31, 2023. DoD proposes that OMB approve an extension of the information collection requirement, to expire three years after the approval date.

DATES: DoD will consider all comments received by May 30, 2023.

ADDRESSES: You may submit comments, identified by OMB Control Number 0704-0477, using any of the following methods:

○ Federal eRulemaking Portal: https://www.regulations.gov. Follow the instructions for submitting comments.

○ Email: osd.dfars@mail.mil. Include OMB Control Number 0704-0477 in the subject line of the message.

Comments received generally will be posted without change to https://www.regulations.gov, including any personal information provided.

FOR FURTHER INFORMATION CONTACT: Kimberly Bass, at 703-717-3446.

SUPPLEMENTARY INFORMATION:

Title and OMB Number: Organizational Conflicts of Interest in Major Defense Acquisition Programs; OMB Control Number 0704-0477.

Affected Public: Businesses or other for-profit and not-for-profit institutions.

Respondent's Obligation: Required to obtain or retain benefits.

Frequency: On occasion.

Number of Respondents: 20.

Responses per Respondent: 3.

Annual Responses: 60.

Average Burden per Response: 40 hours.

Annual Burden Hours: 2,400.

Needs and Uses: The information collection under OMB Control Number 0704-0477 pertains to organizational conflicts of interest in major defense acquisition programs (MDAPs). This collection implements section 207 of the Weapon Systems Acquisition Reform Act of 2009, which requires DoD to tighten requirements for organizational conflicts of interest by contractors in major defense programs. This statutory requirement is implemented in the solicitation provision at DFARS 252.209-7008, Notice of Prohibition Relating to Organizational Conflict of Interest—Major Defense Acquisition Program, which requires offerors to submit a mitigation plan when there is an organizational conflict of interest that can be resolved through mitigation.

Jennifer D. Johnson,
Editor/Publisher, Defense Acquisition Regulations System.

[FR Doc. 2023-06533 Filed 3-29-23; 8:45 am]

BILLING CODE 5001-06-P